DEPARTMENT OF AGRICULTURE

Rural Utilities Service

Basin Electric Power Cooperative: Notice of Extension of Public Comment Period for an Environmental Assessment

AGENCY: Rural Utilities Service, USDA.

ACTION: Notice of Extension of Public Comment Period for an Environmental Assessment.

SUMMARY: The Rural Utilities Service (RUS) is extending the public comment period for an Environmental Assessment (EA) related to a proposed project by Basin Electric Power Cooperative (Basin Electric). The Western Area Power Administration (Western) and the Bureau of Indian Affairs (BIA) are cooperating agencies in preparation of the EA. The proposed Big Bend to Witten Transmission Line Project (proposed action) consists of an approximately 70-mile long 230-kV single-circuit transmission line, a new Western switchyard called Lower Brule Switchyard, an addition to the existing Witten Substation, and approximately two miles of 230-kV double-circuit transmission line between Big Bend Dam and the new Lower Brule Switchyard. Communications facilities including a microwave relay tower and associated building will also be constructed at the Lower Brule Switchyard and Witten Substation. A portion of the proposed transmission line crosses Indian trust lands of the Lower Brule Sioux Tribe, and the agencies have closely cooperated with the Tribe in preparation of the EA. Basin Electric is requesting RUS financial assistance for the proposed action. To ensure that parties interested in the proposed action are provided adequate opportunity for comment, notices are being reissued and the public comment period is being extended for 30 days.

DATES: A Notice of Availability of the Environmental Assessment was published in the Federal Register on January 28, 2015. Written comments on this notice must now be received on or before March 30, 2015.

FOR FURTHER INFORMATION CONTACT: To obtain copies of the EA or for further information, contact Richard Fristik, Senior Environmental Protection Specialist, USDA, Rural Utilities Service, 1400 Independence Avenue SW., Stop 1571, Washington, DC 20250-1571, telephone: (202) 720-5093, or email: richard.fristik@wdc.usda.gov; or, or Kevin L. Solie, Basin Electric Power Cooperative, Inc., 1717 East Interstate Avenue, Bismarck, ND 58503-0564, telephone: (701) 355-5495, or email: ksolie@bepc.com. A copy of the EA may be viewed on line at the Agency's Web site: http://www.rd.usda.gov/files/UWPBigBendtoWitten_EA_Nov_2014_Final.pdf and at the following locations:

Rural Utilities Service, 1400 Independence Avenue SW., Room 2240, Washington, DC 20250

Basin Electric Power Cooperative, 1717 East Interstate Ave., Bismarck, ND 58503-0564

SUPPLEMENTARY INFORMATION: The network transmission system in South Dakota is not able to accommodate projected load growth in the next several years. This transmission line is proposed to strengthen the transmission network, improve transmission system reliability, and to help meet future demand for electricity and economic development in the region. In addition to increasing load serving ability for both Rosebud and West Central Electric Cooperatives, the Project would provide additional access to the regional high voltage transmission system. The proposed Big Bend to Witten line would enhance system reliability by providing an additional connection to the “grid” roughly midpoint along this east-west line. If a portion of the Fort Randall to Martin 115-kV line would be damaged by a storm, the Big Bend to Witten line could provide power to the undamaged segments of the line. The proposed line also would provide a tap point for West Central near Reliance, which would enhance the reliability and stability of the West Central system. The tap point near Reliance would provide an additional power line to the Lower Brule Sioux Indian Reservation, which currently has only one older line, and would provide reliability and stability to power on the Reservation. In addition, future wind generation facilities may be able to interconnect to the proposed line to convey power to West Central's markets. Lastly, the Project lends itself to additional build-out in support of Western's long-range plan for a 230-kV system in southern South Dakota, and it would provide an increase in the load serving capacity such that the delivery needs of the projected network load can be met in a reliable manner.

Basin Electric is seeking financing from RUS for its ownership of the proposed project. Before making a decision to provide financing, RUS is required to conduct an environmental review under NEPA in accordance with RUS's Environmental Policies and Procedures (7 CFR part 1794). AECOM, an environmental consultant, prepared an EA for RUS that describes the project and assesses the proposed project's environmental impacts. RUS has conducted an independent evaluation of the EA and believes that it accurately assesses the impacts of the proposed project. No significant impacts are expected as a result of the construction of the project.

Any final action by RUS related to the proposed action will be subject to, and contingent upon, compliance with all relevant Federal, State, and local environmental laws and regulations and completion of the environmental review requirements as prescribed in RUS's Environmental Policies and Procedures at 7 CFR part 1794.

Richard Fristik,
Acting Director, Engineering and Environmental Staff, Rural Utilities Service.

[FR Doc. 2015-03385 Filed 2-18-15; 8:45 am]

BILLING CODE P